UTAH RECLAMATION MITIGATION AND CONSERVATION COMMISSION

Notice of Availability of the Finding of No Significant Impact on the Proposed Action Modifications for the Diamond Fork System, Central Utah Project

AGENCY: The Utah Reclamation Mitigation and Conservation Commission.

ACTION: Notice of Availability of the Finding of No Significant Impact (FONSI).

SUMMARY: On June 15, 2000, Michael C. Weland, Executive Director of the Utah Reclamation Mitigation and Conservation Commission (Mitigation Commission) signed the Finding of No Significant Impact (FONSI), which documents selection of proposed action modifications presented in the Diamond Fork System Proposed Action Modifications Final Environmental Assessment (Final EA). The Final EA is tiered to the 1999 Final Supplement to the Final Environmental Impact Statement for the Diamond Fork System (1999 FS-FEIS; FEIS 99-25) filed with the U.S. Environmental Protection Agency on July 1, 1999. The Mitigation Commission, Central Utah Water Conservancy District and Department of the Interior were joint lead agencies in preparing the Final EA. The proposed action modifications are described and evaluated in the Final EA upon which the FONSI is based. The proposed action modifications are based on a value-engineering process initiated and completed on the 1999 FS-FEIS Proposed Action. Proposed action modifications will reduce environmental impacts and project costs and will improve overall environmental benefits. The proposed action modifications meet the Mitigation Commission's and Department of the Interior's needs to mitigate for the Bonneville Unit of the Central Utah Project and other federal reclamation projects, and to transport, on average, 147,600 acre-feet of water annually from the Colorado River drainage to the Utah Lake drainage.

The Department of the Interior, Central Utah Project Completion Act Program Director issued a separate FONSI for the Diamond Fork System Proposed Action Modifications. The Program Director's separate decision is necessitated by the Department of the Interior's responsibility and authority over project aspects beyond the Mitigation Commission's scope to mitigate for reclamation projects.

The proposed action modifications will accomplish these measures by constructing and operating a tunnel and pipeline (existing) system, and other existing facilities that convey Central Utah Project (CUP) and Strawberry Valley Project (SVP) transmountain diversions. These facilities will remove from natural stream courses environmentally damaging high flows released since the early part of the 20th century. Additionally, minimum instream flows will be provided. Removal of high flows and provision of minimum flows allows for the restoration of a more natural ecosystem, improvement of fish and wildlife habitat and populations, and increases in recreational uses.

FOR FURTHER INFORMATION CONTACT: Mark Holden, Projects Manager, (801) 524-3146, 102 West 500 South, Suite 315, Salt Lake City, UT 84101.

Dated: June 6, 2000.
Michael C. Weland,
Executive Director.

[FR Doc. 00-15237 Filed 6-15-00; 8:45 am]

BILLING CODE 4310-05-P